COMMISSION ON CIVIL RIGHTS

Sunshine Act Notice

AGENCY: United States Commission on Civil Rights.

ACTION: Notice of meeting.

DATE AND TIME: Friday, February 11, 2011; 9:30 a.m. EST.

PLACE: 624 Ninth Street, NW., Room 540, Washington, DC 20425.

Briefing Agenda

This briefing is open to the public.

Topic: Disparate Impact in School Discipline Policies.

I. Introductory Remarks by Chairman.

II. Speakers' Presentations.

III. Questions by Commissioners and Staff Director.

IV. Adjourn Briefing.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 3, 2010.
David Blackwood,
General Counsel.

[FR Doc. 2010-30932 Filed 12-6-10; 11:15 am]

BILLING CODE 6335-01-P